OFFICE OF PERSONNEL MANAGEMENT

Excepted Service; January 2022

AGENCY: Office of Personnel Management (OPM).

ACTION: Notice.

SUMMARY: This notice identifies Schedule A, B, and C appointing authorities applicable to a single agency that were established or revoked from January 1, 2022 to January 31, 2022.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

14. Department of Commerce (Sch. A, 213.3114)

(m) First Responder Network (FirstNet) Authority—

(1) Not exceed 12 FirstNet Board Member positions. Employment and compensation must be in accordance with 47 U.S.C. 1424. Appointments are time-limited for up to 3 years and FirstNet may reappoint an individual hired under this authority to a second 3-year term. An appointment may be extended beyond the 3-year limit until a successor member has taken office, or until the end of the calendar year in which an appointment expires, whichever is earlier.

Schedule B

No Schedule B Authorities to report during January 2022.

Schedule C

The following Schedule C appointing authorities were approved during January 2022.

Agency name | Organization name | Position title | Authorization No. | Effective date
DEPARTMENT OF AGRICULTURE | Farm Service Agency | State Executive Director—Texas | DA220039 | 01/01/2022
|  | State Executive Director—Arkansas | DA220038 | 01/01/2022
|  | State Executive Director—Missouri | DA220024 | 01/03/2022
|  | State Executive Director—Kentucky | DA220042 | 01/03/2022
|  | State Executive Director—California | DA220047 | 01/14/2022
|  | State Executive Director, Idaho | DA220048 | 01/14/2022
|  | State Executive Director—Nebraska | DA220049 | 01/14/2022
|  | State Executive Director—Virginia | DA220051 | 01/14/2022
|  | State Executive Director—Minnesota | DA220052 | 01/14/2022
|  | State Executive Director—Massachusetts | DA220063 | 01/31/2022
|  | State Executive Director—Pennsylvania | DA220064 | 01/31/2022
|  | State Executive Director—Maryland | DA220065 | 01/31/2022
|  | State Executive Director—Tennessee | DA220070 | 01/31/2022
| Natural Resources Conservation Service | Confidential Assistant | DA220069 | 01/31/2022
| Office of the Deputy Secretary | Special Assistant | DA220067 | 01/31/2022
| Office of the Secretary | Advance Associate | DA220068 | 01/31/2022
| Office of Under Secretary for Natural Resources and Environment | Chief of Staff | DA220056 | 01/14/2022
| Rural Development | State Director—Tennessee | DA220037 | 01/01/2022
|  | State Director—New York | DA220028 | 01/01/2022
|  | State Director—Washington | DA220040 | 01/03/2022
|  | State Director—Montana | DA220041 | 01/03/2022
|  | State Director—Vermont | DA220043 | 01/03/2022
|  | State Director—Florida | DA220053 | 01/14/2022
|  | State Director—Idaho | DA220054 | 01/14/2022
|  | State Director—Oregon | DA220066 | 01/31/2022
APPALACHIAN REGIONAL COMMISSION | Appalachian Regional Commission | Senior Policy Advisor | AP220001 | 01/01/2022
ARCTIC RESEARCH COMMISSION | Arctic Research Commission | Confidential Assistant | AW220002 | 01/28/2022
DEPARTMENT OF COMMERCE | Bureau of Industry and Security | Special Assistant | DC220047 | 01/18/2022
| Minority Business Development Agency | Senior Advisor | DC220052 | 01/18/2022
| National Oceanic and Atmospheric Administration | Senior Advisor | DC220049 | 01/18/2022
|  | Senior Advisor and Speechwriter | DC220058 | 01/27/2022
| National Telecommunications and Information Administration | Special Policy Advisor | DC220061 | 01/27/2022
| Office of Executive Secretariat | Special Assistant | DC220048 | 01/18/2022
| Office of the Chief of Staff | Senior Advisor | DC220046 | 01/18/2022
| Office of the Deputy Secretary | Counselor to the Deputy Secretary | DC220050 | 01/18/2022
| Office of the Under Secretary | Speechwriter and Policy Advisor | DC220040 | 01/03/2022
FEDERAL PERMITTING IMPROVEMENT STEERING COUNCIL | Office of Federal Permitting Improvement Steering Council | Associate Director for Public Engagement | FF220001 | 01/24/2022
DEPARTMENT OF DEFENSE | Office of the Under Secretary of Defense (Personnel and Readiness) | Special Assistant | DD220036 | 01/06/2022
| Washington Headquarters Services | Defense Fellow | DD220035 | 01/18/2022
| Office of the Under Secretary of Defense (Acquisition and Sustainment) | Special Assistant | DD220077 | 01/26/2022
DEPARTMENT OF THE ARMY | Office of the Assistant Secretary Army (Installations, Energy and Environment) | Special Assistant | DW220017 | 01/07/2022
DEPARTMENT OF EDUCATION | Office for Civil Rights | Confidential Assistant | DB220011 | 01/06/2022
| Office of Planning, Evaluation and Policy Development | Confidential Assistant | DB220016 | 01/06/2022
|  | Special Assistant | DB220019 | 01/27/2022
| Office of Communications and Outreach | Senior Advisor | DB220017 | 01/19/2022
DEPARTMENT OF ENERGY | Office of the Assistant Secretary for Congressional and Intergovernmental Affairs | Regional Intergovernmental and External Affairs Specialist | DE220001 | 01/03/2022
ENVIRONMENTAL PROTECTION AGENCY | Office of the Assistant Administrator for Water | Senior Advisor for Technical Assistance and Community Outreach | EP220021 | 01/12/2022
| Office of the Chief Financial Officer | Special Advisor for Implementation | EP220024 | 01/19/2022
| Office of Public Affairs | Writer-Editor (Speechwriter) | EP220025 | 01/20/2022
GENERAL SERVICES ADMINISTRATION | Federal Acquisition Service | Program Director, Presidential Innovation Fellows | GS220011 | 01/27/2022
| Office of Strategic Communication | Director of Public Engagement | GS220010 | 01/31/2022
DEPARTMENT OF HEALTH AND HUMAN SERVICES | Office of the Assistant Secretary for Public Affairs | Press Secretary (2) | DH220034 | 01/10/2022
|  |  | DH220036 | 01/21/2022
| Office of the Secretary | Policy Advisor | DH220038 | 01/26/2022
DEPARTMENT OF HOMELAND SECURITY | Privacy Office | Special Assistant | DM220070 | 01/12/2022
DEPARTMENT OF HOUSING AND URBAN DEVELOPMENT | Office of the Chief Information Officer | Special Assistant | DU220017 | 01/05/2022
| Office of the Deputy Secretary | Policy Advisor | DU220020 | 01/13/2022
DEPARTMENT OF THE INTERIOR | Secretary's Immediate Office | Scheduler | DI220013 | 01/07/2022
|  | Advisor, Office of Congressional and Legislative Affairs | DI220038 | 01/31/2022
DEPARTMENT OF JUSTICE | Office of Public Affairs | Senior Communications Advisor | DJ220023 | 01/12/2022
DEPARTMENT OF LABOR | Office of the Solicitor | Senior Counsel | DL220022 | 01/18/2022
| Office of Wage and Hour Division | Senior Policy Advisor | DL220023 | 01/19/2022
NATIONAL CREDIT UNION ADMINISTRATION | Office of the Chairman | Director, Office of External Affairs and Communications | CU220001 | 01/21/2022
NATIONAL TRANSPORTATION SAFETY BOARD | Office of Board Members | Senior Advisor | TB220002 | 01/03/2022
OFFICE OF MANAGEMENT AND BUDGET | Office of E-Government and Information Technology | Senior Advisor for Delivery | BO220005 | 01/24/2022
OFFICE OF PERSONNEL MANAGEMENT | Congressional, Legislative, and Intergovernmental Affairs | Senior Advisor | PM220014 | 01/12/2022
| Human Resource Solutions | Chief of Staff | PM220008 | 01/20/2022
| Office of the Director | Confidential Assistant | PM220011 | 01/27/2022
|  | Senior Advisor for Strategic Initiatives | PM220012 | 01/31/2022
SECURITIES AND EXCHANGE COMMISSION | Office of Legislative and Intergovernmental Affairs | Legislative Affairs Specialist | SE220006 | 01/27/2022
SMALL BUSINESS ADMINISTRATION | Office of Field Operations | Regional Administrator, Region V | SB220018 | 01/14/2022
|  | Regional Administrator, Region VII | SB220019 | 01/14/2022
DEPARTMENT OF STATE | Bureau of Global Public Affairs | Senior Advisor | DS220013 | 01/04/2022
| Chief of Protocol | Senior Protocol Officer (Visits) | DS220015 | 01/04/2022
| Office of Policy Planning | Senior Advisor | DS220016 | 01/28/2022
DEPARTMENT OF TRANSPORTATION | Office of the Assistant Secretary for Transportation Policy | Special Assistant for Policy | DT220024 | 01/14/2022
|  | Special Assistant for Transportation Policy and Implementation | DT220022 | 01/27/2022
| Office of the Secretary | Special Assistant for Scheduling and Advance | DT220025 | 01/27/2022
DEPARTMENT OF THE TREASURY | Office of the Secretary of the Treasury | Scheduling and Advance Associate | DY220051 | 01/28/2022

The following Schedule C appointing authorities were revoked during January 2022.

Agency name | Organization name | Position title | Request No. | Vacate date
DEPARTMENT OF EDUCATION | Office of Planning, Evaluation and Policy Development | Special Assistant | DB210049 | 01/21/2022
OFFICE OF PERSONNEL MANAGEMENT | Office of the Director | Special Assistant to the Director | PM210038 | 01/30/2022
|  | Policy Advisor | PM210076 | 01/29/2022
OFFICE OF THE SECRETARY OF DEFENSE | Office of the Under Secretary of Defense (Acquisition and Sustainment) | Special Assistant | DD210189 | 01/15/2022
SMALL BUSINESS ADMINISTRATION | Office of Field Operations | Regional Administrator, Region IV | SB220008 | 01/01/2022
|  | Regional Administrator, Region III | SB210054 | 01/01/2022
|  | Regional Administrator, Region I | SB220005 | 01/01/2022

Authority: 5 U.S.C. 3301 and 3302; E.O. 10577, 3 CFR, 1954-1958 Comp., p. 218.

Office of Personnel Management.
Stephen Hickman,
Federal Register Liaison.

[FR Doc. 2022-18177 Filed 8-23-22; 8:45 am]

BILLING CODE 6325-39-P